DEPARTMENT OF COMMERCE

National Oceanic and Atmospheric Administration

Agency Information Collection Activities; Submission to the Office of Management and Budget (OMB) for Review and Approval; Comment Request; Alaska License Limitation Program for Groundfish, Crab, and Scallops

AGENCY: National Oceanic & Atmospheric Administration (NOAA), Commerce.

ACTION: Notice of Information Collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before March 2, 2026.

ADDRESSES: Interested persons are invited to submit written comments to Adrienne Thomas, NOAA PRA Officer, at NOAA.PRA@noaa.gov. Please reference OMB Control Number 0648-0334 in the subject line of your comments. All comments received are part of the public record and will generally be posted on https://www.regulations.gov without change. Do not submit Confidential Business Information or otherwise sensitive or protected information.

FOR FURTHER INFORMATION CONTACT: Requests for additional information or specific questions related to collection activities should be directed to Allyson Olds, Technical Editor, Alaska Region Sustainable Fisheries Division, P.O. Box 21668, Juneau, AK 99801, 907-586-7228, allyson.olds@noaa.gov.

SUPPLEMENTARY INFORMATION:

I. Abstract

This is a request for renewal of an approved information collection. The collection is sponsored by the National Marine Fisheries Service (NMFS), Alaska Regional Office (AKR) and is authorized under the Magnuson-Stevens Fishery Conservation and Management Act (Magnuson-Stevens Act) 16 U.S.C. 1801 et seq. and at 50 CFR parts 679 and 680.

This collection contains collection-of-information requirements necessary for the transfer of License Limitation Program (LLP) licenses for the commercial groundfish, crab, and scallop fisheries. The purpose of this collection is to determine whether a transfer is eligible and if endorsements meet regulatory requirements for licensing and permits. An essential feature of the LLP is the ability for participants to transfer their LLP license. Without the ability to track the movement of LLP licenses, NMFS would be unable to effectively manage the LLP and administer the Pacific Cod Trawl Cooperative (PCTC) Program. The LLP restricts access to the commercial groundfish, crab, and scallop fisheries in the exclusive economic zone off Alaska, except for certain areas where alternative programs exist. The intended effect of the LLP is to limit the number of participants and reduce fishing capacity in fisheries off Alaska. More information on the LLP can be found on the NMFS Alaska Region website and at 50 CFR part 679.

An LLP license is required for vessels participating in directed fishing for LLP groundfish species in the Bering Sea and Aleutian Islands (BSAI) or Gulf of Alaska (GOA), or fishing in any BSAI LLP crab fisheries. An LLP license is also required for any vessel deployed in scallop fisheries in Federal waters off Alaska except for some diving operations.

Vessels participating in directed fishing for LLP groundfish species in the GOA or BSAI, or fishing in any BSAI LLP crab fisheries, must be named on a valid copy of the LLP license that is on board the vessel, with some exceptions. An LLP groundfish or crab license authorizes the license holder to deploy the vessel in fisheries in accordance with the specific area and species endorsements, the vessel and gear designations, the maximum length overall (MLOA) specified on the license, and any exemption from the MLOA specified on the license.

An LLP scallop license authorizes the person named on the license to catch and retain scallops in compliance with State of Alaska regulations using a vessel that does not exceed the MLOA specified on the license and the gear designation specified on the license. Unlike the LLP groundfish license, the scallop license is not vessel specific. A valid copy of the LLP scallop license must be on board the vessel.

For program definitions, refer to 50 CFR 679.2, for permit and licensing requirements for scallop refer to 50 CFR 679.4(g), for permit and licensing requirements for groundfish and crab refer to 50 CFR 679.4(k), for PCTC Program refer to 50 CFR 679 subpart L, and for prohibitions refer to 50 CFR 679.7(i). Additional information on the LLP can be found on the NMFS Alaska Region website at https://www.fisheries.noaa.gov/alaska/sustainable-fisheries/license-limitation-program-alaska.

This collection contains the Application for the transfer of groundfish and crab LLP licenses, the Application for the transfer of scallop LLP licenses, and the Transfer appeal. The applications for transfers are each filled by two respondents, the transferor and the transferee. The type of information collected includes information on the transferor, transferee, and the LLP license to be transferred, as well as information on the quota share to be transferred, the vessel currently named on the LLP license, the vessel to be named on the LLP license, and the ownership interest and transaction data. Information is collected as needed by the respondent and is used to determine whether a transfer is eligible and if endorsements meet regulatory requirements for licensing and permits. All of the forms can now be submitted electronically via email. There are no other changes to this collection.

II. Method of Collection

The applications are available as fillable PDFs on the NMFS Alaska Region website and may be downloaded and emailed, printed, faxed, or delivered. The Application for the transfer of groundfish and crab LLP licenses is found at https://www.fisheries.noaa.gov/permit/alaska-license-limitation-program-applications-groundfish-and-crab, and the Application for the transfer of scallop LLP licenses is found at https://www.fisheries.noaa.gov/permit/alaska-scallop-license-limitation-program-application-forms. The transfer appeal may be emailed, printed, faxed, or delivered.

III. Data

OMB Control Number: 0648-0334.

Form Number(s): None.

Type of Review: Regular submission (extension of a current information collection).

Affected Public: Individuals or households; Business or other for-profit organizations.

Estimated Number of Respondents: 115 respondents.

Estimated Time per Response: 1 hour for Application for the transfer of groundfish and crab LLP licenses; 1 hour for the Application for the transfer of scallop LLP licenses; 4 hours for the Transfer appeal.

Estimated Total Annual Burden Hours: 61 hours.

Estimated Total Annual Cost to Public: $1,075 for operating costs.

Respondent's Obligation: Required to Obtain or Retain Benefits.

Legal Authority: Magnuson-Stevens Act 16 U.S.C. 1801 et seq. and at 50 CFR parts 679 and 680.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection request. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-23994 Filed 12-29-25; 8:45 am]

BILLING CODE 3510-22-P